NUCLEAR REGULATORY COMMISSION

[Docket No. 50-238; NRC-2024-0060]

United States Maritime Administration; Nuclear Ship Savannah; License Termination Plan

AGENCY: Nuclear Regulatory Commission.

ACTION: Public meeting and request for comment.

SUMMARY: On October 23, 2023, the U.S. Nuclear Regulatory Commission (NRC) received from the United States Maritime Administration (MARAD, the licensee) a license amendment request to include a License Termination Plan (LTP) for the Nuclear Ship Savannah (NS Savannah). The LTP provides details about the known radiological information for the ship, the planned demolition and decommissioning tasks to be completed, and the final radiological surveys and data that must be obtained for termination of the NRC's license for NS Savannah. The NRC is requesting public comments on NS Savannah's LTP and will hold a public meeting to discuss the LTP.

DATES: The public meeting will be held on Wednesday, May 8, 2024, from 6 p.m. to 7:30 p.m., eastern time (ET), onboard the NS Savannah, online, or by phone. The NS Savannah is located at Pier 13 Canton Marine Terminal, 4601 Newgate Avenue, Baltimore, MD 21124. The public meeting is also available through an online webinar. See Section III “Request for Comment and Public Meeting” of this document for additional information. Submit comments by June 3, 2024. Comments received after this date will be considered if it is practical to do so, but the NRC is able to ensure consideration only for comments received on or before this date.

ADDRESSES: You may submit comments by any of the following methods; however, the NRC encourages electronic comment submission through the Federal rulemaking website:

• Federal Rulemaking Website: Go to https://www.regulations.gov and search for Docket ID NRC-2024-0060. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Tanya E. Hood, Office of Nuclear Material Safety and Safeguards, U.S. Nuclear Regulatory Commission, Washington, DC 20555-0001, telephone: 301-415-1387; email: Tanya.Hood@nrc.gov.

SUPPLEMENTARY INFORMATION:

I. Obtaining Information and Submitting Comments

A. Obtaining Information

Please refer to Docket ID NRC-2024-0060 when contacting the NRC about the availability of information for this action. You may obtain publicly available information related to this action by any of the following methods:

• Federal Rulemaking Website: Go to https://www.regulations.gov and search for Docket ID NRC-2024-0060.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

B. Submitting Comments

The NRC encourages electronic comment submission through the Federal rulemaking website (https://www.regulations.gov). Please include Docket ID NRC-2024-0060 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The United States Maritime Administration (MARAD, the licensee) is the holder of Facility Operating License, NS-1. The license provides, among other things, that the Nuclear Ship Savannah (NS Savannah) is subject to all rules, regulations, and orders of the NRC now or hereafter in effect. The NS Savannah is a pressurized water reactor ship located in Baltimore, MD.

The NS Savannah has been shutdown since November 8, 1970, and was defueled on December 3, 1971. The licensee started the decommissioning process in 1971 in accordance with section 50.82 of title 10 of the Code of Federal Regulations (10 CFR), “Termination of license.” In 1973, the U.S Atomic Energy Commission (NRC's predecessor agency) issued an amendment placing the reactor in a SAFSTOR condition. SAFSTOR is a method of decommissioning in which a nuclear facility is placed and maintained in a condition that allows the facility to be safely stored and subsequently decontaminated (deferred decontamination) to levels that permit release for unrestricted use. In 1976, the Possession-only license was issued as required by the 10 CFR 50.82 rule that was completely revised in 1996 (61 FR 39278, July 29, 1996).

The licensee submitted its Post-Shutdown Decommissioning Activities Report (PSDAR), Revision 0, on December 11, 2006 (ADAMS Accession No. ML063470625) and withdrew Revision 0 by letter dated January 26, 2007 (ADAMS Accession No. ML18120A039), prior to the NRC scheduling a PSDAR public meeting. By letter dated December 11, 2008 (ADAMS Accession No. ML083590349), the licensee submitted an updated PSDAR, Revision 1, to reflect that the there is no intent to immediately dismantle the ship itself following license termination. The scope of dismantlement described in the PSDAR is based on several fundamental assumptions, (1) the ship itself is not dismantled as part of DECON; (2) existing accesses are utilized to support dismantlement of systems and components; and (3) major structures will not be dismantled. These assumptions are based, in part, on National Historic Preservation Act requirements and satisfactory final status surveys (FSS). The licensee anticipates requesting license termination to be effective in December 2025, provided all prerequisite actions are complete at that time.

Based on this, and the fact that the ship is a registered National Historic Landmark, the licensee intends to pursue the DECON industrial work in a fashion that minimizes any physical affect to adjacent ship structure. DECON is a method of decommissioning in which structures, systems, and components that contain radioactive contamination are actively removed from the site and safely disposed of at a commercially operated low-level waste disposal facility or decontaminated to a level that permits the site to be released for unrestricted use. DECON may occur shortly after cessation of operations, or after a period of SAFSTOR. Unlike a land-based nuclear plant, the NS Savannah is waterborne, mobile and of unique historic significance, thus its decommissioning presents a number of unusual factors for consideration.

By application dated October 23, 2023 (ADAMS Accession No. ML23298A041), the licensee submitted their LTP to the NRC. Paragraph 50.82(a)(9) specifies that an application for license termination must be accompanied or preceded by an LTP, which is subject to NRC review and approval. The LTP addresses site characterization to ensure that the scope of FSS of the site cover all areas where contamination existed, remains, or has the potential to exist or remain, identification of remaining dismantlement activities, plans for site remediation, a description of the FSS plans to confirm that NS Savannah will meet the release criteria in 10 CFR part 20, subpart E, “Radiological Criteria for License Termination,” dose-modeling scenarios that ensure compliance with the radiological criteria for license termination, an estimate of the remaining site-specific decommissioning costs and an updated assessment of the environmental effects of decommissioning NS Savannah. Once approved, the LTP would become a supplement to the NS Savannah Defueled Safety Analysis Report.

According to 10 CFR 50.82(a)(9)(iii), after the licensee submits an LTP the NRC must hold a public meeting near the site. The purpose of the meeting is for the NRC staff to discuss the NRC's review of the LTP and to request public comments on the LTP. In addition, in accordance with 10 CFR 50.82(a)(9)(iii) and 20.1405, upon the receipt of an LTP from a licensee, NRC must publish a notice in the Federal Register and solicit comments from affected parties. Please see the related notice regarding the LTP proposed no significant hazards consideration determination and opportunity to request a hearing and petition to intervene (89 FR 22199, March 29, 2024).

III. Request for Comment and Public Meeting

The NRC is requesting public comments on the NS Savannah LTP. The NRC will conduct a public meeting to discuss the LTP and receive comments on Wednesday, May 8, 2024, from 6 p.m. to 7:30 p.m., ET onboard the NS Savannah, online, or by phone. The NS Savannah is located at Pier 13 Canton Marine Terminal, 4601 Newgate Avenue, Baltimore, MD 21124. Please contact Tanya E. Hood no later than May 6, 2024, if accommodations or special equipment are needed for you to attend or to provide comments, so that the NRC staff can determine whether the request can be accommodated.

Special services. The NS Savannah is not compliant with the Americans with Disabilities Act. The ship has some capability to accommodate persons with impaired mobility. For additional information regarding the meeting, see the NRC's Public Meeting Schedule website at https://meetings.nrc.gov/pmns/mtg. The agenda will be posted no later than 10 days prior to the meeting.

Dated: March 29, 2024.
For the Nuclear Regulatory Commission.
Shaun M. Anderson,
Chief, Reactor Decommissioning Branch, Division of Decommissioning, Uranium Recovery, and Waste Programs, Office of Nuclear Material Safety and Safeguards.

[FR Doc. 2024-07010 Filed 4-2-24; 8:45 am]

BILLING CODE 7590-01-P